DEPARTMENT OF ENERGY

Federal Energy Regulatory Commission

[Project No. 3030-019]

Antrim County; Notice of Application Accepted for Filing, Ready for Environmental Analysis, and Soliciting Motions To Intervene and Protests, Comments, Recommendations, Terms and Conditions, and Prescriptions

Take notice that the following hydroelectric application has been filed with the Commission and is available for public inspection.

a. Type of Application: Subsequent license.

b. Project No.: 3030-019.

c. Date filed: December 21, 2012.

d. Applicant: Antrim County.

e. Name of Project: Elk Rapids Hydroelectric Project.

f. Location: On the Elk River, in the village of Elk Rapids, the counties of Antrim, Grand Traverse, and Kalkaskia, Michigan. The project does not occupy any federal lands.

g. Filed Pursuant to: Federal Power Act 16 U.S.C. 791(a)-825(r).

h. Applicant Contact: Willam Stockhausen, Elk Rapids Hydroelectric Power, LLC, 218 West Dunlap Street, Northville, MI 48167 or at (248) 349-2833.

i. FERC Contact: Lee Emery, (202) 502-8379, lee.emery@ferc.gov.

j. Deadline for filing motions to intervene and protests, comments, recommendations, terms and conditions, and prescriptions: 60 days from the issuance date of this notice; reply comments are due 105 days from the issuance date of this notice.

The Commission strongly encourages electronic filing. Please file comments, recommendations, terms and conditions, and prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-3030-019.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted, and is ready for environmental analysis at this time.

l. The Elk Rapids Project consists of: (1) Two impoundments, the 2,560-acre Skegemog Lake and the 7,730-acre Elk Lake; (2) a 121-foot-long, 52-foot-high, 26-foot-wide existing powerhouse that spans the main channel of the Elk River, with an operating head of 10.5 feet; (3) a 24-foot-high, single story superstructure; (4) a substructure that includes the intakes and turbine pits, which are about 13 feet high; (5) a 13-foot-high concrete foundation located below the substructure that incorporates the draft tubes; (6) four intake bays, each 22 feet wide with sliding head gates at the powerhouse wall; (7) two Francis turbines, each with an installed capacity of 350 kilowatts; (8) intake trash racks having a 1.75-inch clear bar spacing; (9) a 14-foot-wide overflow spillway located about 400 feet south of the powerhouse, which consists of two adjacent concrete drop structures, each with 7-foot-long stop logs to control the lake level, with each drop structure leading to a 62.5-foot-long by 4.5-foot-diameter culvert that passes under Dexter Street; (10) two turbine gates used to spill excess water through the two intake bays that do not contain turbines and generating units; (11) a 4,160-kilovolt (kV) transmission line that extends about 30 feet from the powerhouse to a 20-foot by 30-foot substation enclosure; (12) a 50-foot-long underground 12.5-kV transmission line to connect the project substation to the local utility distribution lines; and (13) other appurtenant facilities. The average annual generation is estimated to be 2,422 megawatt-hours (MWh).

m. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST”, “MOTION TO INTERVENE”, “COMMENTS”, “REPLY COMMENTS”, “RECOMMENDATIONS”, “TERMS AND CONDITIONS”, or “PRESCRIPTIONS”; (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

You may also register online at http://www.ferc.gov/docs-filing/esubscription.asp to be notified via email of new filings and issuances related to this or other pending projects. For assistance, contact FERC Online Support.

o. A license applicant must file no later than 60 days following the date of issuance of this notice: (1) A copy of the water quality certification; (2) a copy of the request for certification, including proof of the date on which the certifying agency received the request; or (3) evidence of waiver of water quality certification.

Dated: December 26, 2013.
Kimberly D. Bose,
Secretary.

[FR Doc. 2013-31400 Filed 12-31-13; 8:45 am]

BILLING CODE 6717-01-P